DEPARTMENT OF HOUSING AND URBAN DEVELOPMENT

24 CFR Parts 5, 91, 92, 93, 570, 574, 576, 903, and 983

[Docket No. FR-6250-N-03]

RIN 2529-AB05

Affirmatively Furthering Fair Housing; Withdrawal

AGENCY: U.S. Department of Housing and Urban Development (HUD).

ACTION: Proposed rule; withdrawal.

SUMMARY: This document informs the public that HUD has determined not to pursue the proposed rule published in the Federal Register on February 9, 2023, entitled “Affirmatively Furthering Fair Housing”. HUD will proceed to formally withdraw the rule from HUD's upcoming Spring 2025 Unified Agenda of Regulatory and Deregulatory Actions.

ADDRESSES: Department of Housing and Urban Development, 451 7th Street SW, Room 10282, Washington, DC 20410.

DATES: The proposed rule published at 88 FR 8516, February 9, 2023, is withdrawn as of January 16, 2025.

FOR FURTHER INFORMATION CONTACT: Aaron Santa Anna, Associate General Counsel for Legislation and Regulations, Office of General Counsel, Department of Housing and Urban Development, 451 7th Street SW, Room 10282, Washington, DC 20410; telephone number 202-402-5138 (this is not a tollfree number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: On February 9, 2023 (88 FR 8516), HUD published a proposed rule in the Federal Register entitled “Affirmatively Furthering Fair Housing” that included, among others, provisions reestablishing a formal AFFH planning process and creating an enforcement mechanism to ensure program participants comply with the duty to affirmatively further fair housing.

The Department has determined to withdraw the proposed rule at this time and to terminate this rulemaking proceeding. HUD does not intend for a final rule to be issued on this NPRM. If, in the future, HUD decides it is appropriate to issue regulations on this topic, HUD will do so through a new notice of proposed rulemaking, subject to the requirements of the Administrative Procedure Act, 5 U.S.C. 551, et seq. and 24 CFR part 10.

HUD's Withdrawal of Proposed Rule

Accordingly, HUD will proceed to formally withdraw the following proposed rule from its Spring 2025 Unified Agenda of Regulatory and Deregulatory Actions: Affirmatively Furthering Fair Housing (88 FR 8516, February 9, 2023) (RIN 2529-AB05). HUD's Unified Agenda of Regulatory and Deregulatory Actions is available on Reginfo.gov and can be accessed at https://www.reginfo.gov/public/do/eAgendaMain.

Benjamin Klubes,
Acting General Counsel.

[FR Doc. 2025-00981 Filed 1-15-25; 8:45 am]

BILLING CODE 4210-67-P